AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before January 9, 2006.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION:

OMB No.: OMB 0412-NEW.

Form No.: N/A.

Title: Minority Serving Institution Database.

Type of Review: New Information Collection.

Purpose: The U.S. Agency for International Development (USAID) requests comment on its proposal to expand its existing automated Extranet database to include voluntary registration of U.S. Minority Serving Institutions (MSIs). The existing application, the Small Business Resource Database (SBRD) was placed into production at the beginning of Fiscal year 2004. Small and Small and Disadvantaged Business interested in pursuing contracts with USAID may register with the Agency on a voluntary basis. These data are then made available via a secure Extranet conduit to Agency Program, Technical and Contract Officers worldwide. The Agency experienced a significant improvement in the amount of contracting with these entities in Fiscal Year 2004, versus USAID's performance in 2003, and in comparison to the averages for the Executive Branch of the Federal government. The Agency's performance in this regard is published at the following URL: http://www.sba.gov/GC/goads/Goaling-Report-08-21-2005.pdf.

USAID proposes to capture the voluntary registration of Minority Serving Institutions (MSIs), who may be interested in pursuing contracts, grants and cooperative agreements with USAID in furtherance of the Agency's international development initiatives. The existing SBRD application, and the Extranet conduit for disseminating these data within USAID would be utilized for this purpose. This action would further the grant-making process and potentially benefit several of the three hundred and fifty-one U.S. MSIs. Additional information regarding the SBRD, which is presently in production, without the proposed expanded registration capability, may be reviewed at the following URL: http://www.usaid.gov/business/small_business/vendordb.html.

Annual Reporting Burden:

Respondents: 351.

Total annual responses: 351.

Total annual hours requested: 87.75 hours.

Dated: November 2, 2005.
Joanne Paskar,
Chief, Information and Records Division, Office of Administrative Services Bureau for Management.

[FR Doc. 05-22429 Filed 11-9-05; 8:45 am]

BILLING CODE 6116-01-M